DEPARTMENT OF LABOR

Employment and Training Administration

[TA-W-73,091]

The Basic Aluminum Castings Co., Cleveland, OH; Notice of Revised Determination on Reconsideration

By application dated December 3, 2010, The International Union, United Automobile, Aerospace and Agricultural Implement Workers of America, Region 2B, requested administrative reconsideration of the negative determination regarding workers' eligibility to apply for Trade Adjustment Assistance (TAA) applicable to workers and former workers of The Basic Aluminum Castings Co., Cleveland, Ohio (subject firm). The determination was issued on October 14, 2010. The Department's Notice of Determination was published in the Federal Register on November 3, 2010 (75 FR 67773). Workers at the subject firm are engaged in employment related to the production of aluminum die castings.

New information revealed that, during the period of investigation, imports of articles like or directly competitive aluminum die castings produced by the subject firm have increased. Specifically, the Department of Labor conducted a survey of the subject firm's major declining customer regarding their purchases of aluminum die castings during the relevant period. The survey revealed increased customer reliance on imported aluminum die castings.

Finally, Section 222(a)(2)(A)(iii) has been met because the increased imports of aluminum die castings by a customer of the subject firm contributed importantly to the worker group separations and sales/production declines at the subject firm.

Conclusion

After careful review of the additional facts obtained during the reconsideration investigation, I determine that workers of The Basic Aluminum Castings Co., Cleveland, Ohio, who are engaged in employment related to the production of aluminum die castings, meet the worker group certification criteria under Section 222(a) of the Act, 19 U.S.C. 2272(a). In accordance with Section 223 of the Act, 19 U.S.C. 2273, I make the following certification:

“All workers of The Basic Aluminum Castings Co., Cleveland, Ohio, who became totally or partially separated from employment on or after December 2, 2008, through two years from the date of this revised certification, and all workers in the group threatened with total or partial separation from employment on date of certification through two years from the date of certification, are eligible to apply for adjustment assistance under Chapter 2 of Title II of the Trade Act of 1974, as amended.”

Signed in Washington, DC, this 21st day of January 2011.
Del Min Amy Chen,
Certifying Officer, Office of Trade Adjustment Assistance.

[FR Doc. 2011-2251 Filed 2-1-11; 8:45 am]

BILLING CODE 4510-FN-P